DEPARTMENT OF TRANSPORTATION

Federal Aviation Administration

14 CFR Part 71

[Docket No. FAA-2017-0295; Airspace Docket No. 16-AWP-2]

Establishment of Class E Airspace and Amendment of Class D and Class E Airspace; Kaunakakai, HI

AGENCY: Federal Aviation Administration (FAA), DOT.

ACTION: Final rule.

SUMMARY: This action modifies airspace designations at Molokai Airport, Kaunakakai, HI. The FAA establishes an area of Class E airspace designated as a surface area; modifies Class E airspace designated as an extension to a Class D or E surface area; and modifies Class E airspace extending upward from 700 feet above the surface. Also, this action updates the airport's geographic coordinates for the associated Class D and E airspace areas to reflect the FAA's current aeronautical database and removes references to the Molokai VHF omnidirectional range/tactical air navigation (VORTAC). These changes enhance safety and support instrument flight rules (IFR) operations at the airport.

DATES: Effective 0901 UTC, December 7, 2017. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of this material at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 1601 Lind Avenue SW., Renton, WA, 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes Class E surface area airspace and modifies Class D and Class E airspace at Molokai Airport, Kaunakakai, HI, in support of standard instrument approach procedures for IFR operations at this airport.

History

On July 28, 2017, the FAA published in the Federal Register (82 FR 35131) Docket FAA-2017-0295, a notice of proposed rulemaking that proposed to establish Class E surface area airspace and modify Class E airspace designated as an extension to a Class D or E surface area; modify Class E airspace extending upward from 700 feet above the surface. at Molokai Airport, Kaunakakai, HI, and amend the geographic coordinates of the airport. Interested parties were invited to participate in this rulemaking effort by submitting written comments on the proposal to the FAA. One comment was received supporting the proposal.

Class D and E airspace designations are published in paragraph 5000, 6002, 6004, and 6005, respectively, of FAA Order 7400.11B, dated August 3, 2017, and effective September 15, 2017, which is incorporated by reference in 14 CFR 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) Part 71 by establishing Class E airspace designated as surface area at Molokai Airport, Kaunakakai, HI. This new airspace designation, within a 4.3-mile radius of the airport, provides controlled airspace to support increased aircraft operations under IFR during the hours that the Class D airspace area is not in effect.

This action also amends Class E airspace designated as an extension to Class D or E surface area at the airport by increasing the area to a 4.3-mile wide segment (from 3.6 miles wide) extending to 8 miles west (from 7.2 miles west) of the airport. The part-time NOTAM information is removed because Class D airspace or Class E surface airspace is continuous. The FAA also removes reference to the Molokai VORTAC in the airspace legal description to reflect the FAA's transition from ground-based to satellite-based navigation aids.

Additionally, Class E airspace extending upward from 700 feet above the surface is enlarged west of the airport from the 6.8-mile radius of the airport to an area 10 miles wide (from 3.6 miles wide) extending to 12.4 miles west (from 8.3 miles west) of the airport.

This action also updates the airport's geographic coordinates for the associated Class D and E airspace areas to reflect the FAA's current aeronautical database. Additionally, this action replaces the outdated term “Airport/Facility Directory” with the term “Chart Supplement” in the Class D and E airspace legal descriptions. These modifications are necessary for the safety and management of IFR operations at the airport.

Lastly, a technical amendment is made to rename the airspace designation for the following airspace areas: AWP HI D Molokai, HI, is renamed Kaunakakai, HI; AWP HI E2 Molokai, HI, is renamed Kaunakakai, HI; and AWP HI E5 Molokai, HI, is renamed Kaunakakai, HI, to remain consistent in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

AWP HI D Kaunakakai, HI [Amended]

Molokai Airport, HI

(Lat. 21°09′10″ N., long. 157°05′47″ W.)

That airspace extending upward from the surface to and including 3,000 feet MSL within a 4.3-mile radius of Molokai Airport. This Class D airspace area is effective during the specific dates and times established in advance by a Notice to Airmen. The effective date and time will thereafter be continuously published in the Chart Supplement.

Paragraph 6002 Class E Airspace Designated as Surface Areas.

* * * * *

AWP HI E2 Kaunakakai, HI [New]

Molokai Airport, HI

(Lat. 21°09′10″ N., long. 157°05′47″ W.)

That airspace extending upward from the surface within a 4.3-mile radius of Molokai Airport. This Class E airspace area is effective during the specific dates and times established in advance by a Notice to Airmen. The effective date and time will thereafter be continuously published in the Chart Supplement.

Paragraph 6004 Class E Airspace Areas Designated as an Extension to a Class D or Class E Surface Area.

* * * * *

AWP HI E4 Kaunakakai, HI [Amended]

Molokai Airport, HI

(Lat. 21°09′10″ N., long. 157°05′47″ W.)

That airspace extending upward from the surface within 1.5 miles north and 2.8 miles south of a 255° bearing from Molokai Airport extending from the 4.3-mile radius to 8 miles west of the airport.

Paragraph 6005 Class E Airspace Areas Extending Upward From 700 Feet or More Above the Surface of the Earth.

* * * * *

AWP HI E5 Kaunakakai, HI [Amended]

Molokai Airport, HI

(Lat. 21°09′10″ N., long. 157°05′47″ W.)

That airspace extending upward from the surface within a 6.8-mile radius of Molokai Airport and within 5.4 miles north and 4.8 miles south of a 255° bearing from Molokai Airport extending from the 6.8-mile radius to 12.4 miles west of the airport.

Issued in Seattle, Washington, on October 3, 2017.
B.G. Chew,
Acting Group Manager, Operations Support Group, Western Service Center.

[FR Doc. 2017-21785 Filed 10-10-17; 8:45 am]

BILLING CODE 4910-13-P